COMMITTEE FOR PURCHASE FROM PEOPLE WHO ARE BLIND OR SEVERELY DISABLED

Clarification of Scope of Procurement List Additions; 2008 Commodities Procurement List; Quarterly Update of the A-List and Movement of Products Between the A-List, B-List and C-List

AGENCY: Committee for Purchase From People Who Are Blind or Severely Disabled.

ACTION: Publication of the quarterly update of the A-list and movement of products between the A-list, B-list and C-list as of January 1, 2009.

SUMMARY: The Committee for Purchase From People Who Are Blind or Severely Disabled, in accordance with the procedures published on December 1, 2006 (71 FR 69535-69538), has updated the scope of the Program's procurement preference requirements for the products listed below between and among the Committee's A-list, B-list and C-list. A-list products are suitable for the Total Government Requirement as aggregated by the General Services Administration, the B-list are those products suitable for the Broad Government Requirement as aggregated by the General Services Administration, and C-list products are suitable for the requirements of one or more specified agency(ies). The lists below track changes to A-, B-, C-designations that occurred between August 30, 2008 and November 19, 2008.

DATES: The effective date for the quarterly update of the A-list and movement of products between and among the A-list, B-list and C-list is January 1, 2009.

ADDRESSES: Committee for Purchase From People Who Are Blind or Severely Disabled, Jefferson Plaza 2, Suite 10800, 1421 Jefferson Davis Highway, Arlington, Virginia 22202-3259.

FOR FURTHER INFORMATION CONTACT: Emily A. Covey, Telephone: (703) 603-7740, Fax: (703) 603-0655, or e-mail cmtefedreg@jwod.gov

Products Moved From B-List to A-List

Marker, Tube Type, Black

7510-00-043-3408

Stapler, Stand-Up

7520-01-515-3549

Products Moved From C-List to A-List

None

Products Moved From A-List to B-List

Ergo Gel Keyboard and Monitor Platform

7045-01-483-7837

Disk, Flexible

7045-01-283-4362

Mouse Pad, Computer

7045-01-368-4810

Greendisk

7045-01-392-6514

Tape, Packaging, Beige

7510-00-297-6655

Binder, Three Ring

7510-01-510-4873

7510-01-510-4858

Binder, Three Ring, Red

7510-01-511-4322

Binder, Loose-leaf, Three Ring

7510-01-484-1755

Binder, Poly

7510-01-484-1757

7510-01-484-1763

Correct-It Roller Refill Cartridge

7510-01-350-1810

Illuminator/Corrector Stx and Refills

7510-01-390-0704

Dispenser, Tape

7520-00-240-2417

Pen, Ballpoint

7520-00-543-7149

Marker, Tube Type, Fine Tip, Red

7520-00-904-1266

Marker, Tube Type, Fine Tip, Blue

7520-00-904-1268

Markers, Lumocolor, Permanent

7520-01-392-5296

7520-01-507-6972

7520-01-507-6969

Markers, Lumocolor, Non-Permanent

7520-01-507-6963

7520-01-507-6958

Highlighter, Free-Ink, Flat

7520-01-553-8140

Refill, Tape

7520-00-NIB-1579

Toner Cartridge, HPC4092A Compatible

7510-01-558-6166

Spot Remover, SAVVY, 32 oz.

7930-01-517-6194

Markers, Permanent Impression, Fine Tip Set

7520-01-519-4380

Markers, Permanent Impression, Red, Ultra Fine Tip

7520-01-520-3889

Markers, Liquid Impression, Black, Medium Tip Set

7520-01-519-4365

Markers, Liquid Impression, Red, Medium Tip Set

7520-01-519-4375

Markers, Liquid Impression, Black, Extra Fine Tip

7520-01-519-4364

Paper, Tabulating

7530-00-144-9602

Pen, Cushion Grip, Black, Fine Tip

7520-01-542-5953

Inkjet Cartridge, Canon Replacement

7510-01-544-0832

7510-01-544-0836

7510-01-544-0833

7510-01-544-0835

Inkjet Cartridge, Epson Replacement

7510-01-544-0830

7510-01-544-0826

7510-01-544-0831

7510-01-544-0838

Products Moved From A-List to C-List

None

Products Moved From B-List to C-List

None

Products Moved From C-List to B-List

None

The complete A-list is available at http://www.jwod.gov/jwod/p_and_s/A-List_08.html.

Emily A. Covey,
Acting Director, Program Operations.

[FR Doc. E8-28252 Filed 11-26-08; 8:45 am]

BILLING CODE 6353-01-P